ENVIRONMENTAL PROTECTION AGENCY

[EPA-HQ-OPP-2007-0409; FRL-8131-9]

The Association of American Pesticide Control Officials /State FIFRA Issues Research and Evaluation Group; Notice of Public Meeting

AGENCY: Environmental Protection Agency (EPA).

ACTION: Notice.

SUMMARY: The Association of American Pesticide Control Officials (AAPCO)/State FIFRA Issues Research and Evaluation Group (SFIREG) will hold a 2-day meeting, beginning on June 25, 2007 and ending June 26, 2007. This notice announces the location and times for the meeting and sets forth the tentative agenda topics.

DATES: The meeting will be held on June 25, 2007 from 8.30 a.m. to 5 p.m. and 8:30 a.m. to 12 noon on June 26, 2007.

To request accommodation of a disability, please contact the person listed under FOR FURTHER INFORMATON CONTACT, preferably at least 10 days prior to the meeting, to give EPA as much time as possible to process your request.

ADDRESSES: The meeting will be held at USEPA 2777 South Crystal Dr., One Potomac Yards (South Bldg.) 4th Floor Conference Center/South

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Grier Stayton, SFIREG Executive Secretary, P.O. Box 466, Milford, DE 19963; telephone number: (302) 422-8152; fax (302) 422-2435; e-mail address: “grier stayton” <aapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. ” Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

Docket. EPA has established a docket for this action under docket identification (ID) number EPA-HQ-OPP-2006-0409 Publicly available docket materials are available either in the electronic docket at http://www.regulations.gov, or, if only available in hard copy, at the Office of Pesticide Programs (OPP) Regulatory Public Docket in Rm. S-4400, One Potomac Yard (South Building), 2777 S. Crystal Dr., Arlington, VA. The hours of operation of this Docket Facility are from 8:30 a.m. to 4 p.m., Monday through Friday, excluding legal holidays. The Docket telephone number is (703) 305-5805.

II. Tentative Agenda

1. Soil Fumigant Cluster Review.

2. Rodenticide Reregistration Decisions.

3. New Mosquitocide Labeling on Droplet Sizes.

4. Cause Marketing.

5. Process for State Lead Agencies to Obtain Data Reviews and Registration Related Data .

6. Mold Issues and Policy.

7. HVAC Product Labeling.

8. Endangered Species Enforcement Issues.

9. Worker Protection Standards and Certification Rule Revision.

10. Update on 25(b) Petition.

11. Chemigation Issue Paper.

12. Working Committee Reports.

13. Regional Reports.

14. Tribal Pesticide Program Council Update.

15. Association of American Pesticide Safety Educators Update.

16. EPA Updates:

a. Office of Pesticide Programs Update.

b. Office of Enforcement Compliance Assurance Update.

List of Subjects

Environmental protection, Pesticide and pest.

Dated: May 15, 2007.
W. R. Diamond,
Director, Field and External Affairs Division, Office of Pesticide Programs.

[FR Doc. E7-9913 Filed 5-22-07; 8:45 am]

BILLING CODE 6560-50-S